DEPARTMENT OF HOMELAND SECURITY

Bureau of Customs and Border Protection

Request for Applicants for Appointment to the Departmental Advisory Committee on Commercial Operations of Customs and Border Protection and Related Homeland Security Functions (COAC)

AGENCY: Customs and Border Protection, Department of Homeland Security.

ACTION: Committee Management; request for applicants for appointment to the Departmental Advisory Committee on Commercial Operations of Customs and Border Protection and Related Homeland Security Functions (COAC); technical correction.

SUMMARY: This document contains a technical correction to a Notice which was published in the Federal Register on Monday, July 17, 2006 in which Customs and Border Protection (CBP) requests individuals who are interested in serving on the Departmental Advisory Committee on Commercial Operations of Customs and Border Protection and Related Homeland Security Functions (formerly known as the “Commercial Operations Advisory Committee” and popularly still known as “COAC”) to apply for appointment.

DATES: Correction is effective retroactively from July 17, 2006.

FOR FURTHER INFORMATION CONTACT: Ms. Wanda J. Tate, Program Management Specialist, Office of Trade Relations, Customs and Border Protection, (202) 344-1440, FAX (202) 344-1969.

SUPPLEMENTARY INFORMATION:

Background

On Monday, July 17, 2006, CBP published a Notice in the Federal Register (71 FR 40528) stating that Customs and Border Protection (CBP) is requesting individuals who are interested in serving on the Departmental Advisory Committee on Commercial Operations of Customs and Border Protection and Related Homeland Security Functions (formerly known as the “Commercial Operations Advisory Committee” and popularly still known as “COAC”) to apply for appointment.

This correction concerns the section entitled “Committee Membership,” specifically, the fourth paragraph of the third column on page 40529, which announced that the applicant would serve as a Special Government Employee (SGE) and that the applicant would also be required to complete a Confidential Financial Disclosure Report (OEG Form 450). Because members of the Committee are not considered Federal Government employees for any purpose, having them serve in the capacity of an SGE is incorrect. Further, there is no requirement to complete a Confidential Disclosure Report. Accordingly, this document corrects that notice by eliminating this paragraph from the document.

Correction of Publication

Accordingly, the publication on Monday, July 17, 2006 of the Notice, which was the subject of FR Doc. E6-11285, is corrected as follows: On page 40529, in the third column, the fourth paragraph under the heading “Committee Membership” is deleted in its entirety.

Dated: August 9, 2006.
Lawrence J. Rosenzweig,
Acting Director, Office of Trade Relations, Bureau of Customs and Border Protection.

[FR Doc. E6-13320 Filed 8-14-06; 8:45 am]

BILLING CODE 9111-14-P